DEPARTMENT OF TRANSPORTATION

Federal Motor Carrier Safety Administration

[Docket No. FMCSA-2018-0091]

Agency Information Collection Activities; Renewal of Existing Information Collection Request: Commercial Motor Vehicle Marking Requirements

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. This ICR will enable FMCSA to document the burden associated with the marking regulations in “Marking of Self-Propelled CMVs and Intermodal Equipment.” These regulations require marking of vehicles and intermodal equipment by motor carriers and intermodal equipment providers (IEPs) engaging in interstate transportation. The FMCSA requests approval to renew an ICR titled, “Commercial Motor Vehicle Marking Requirements.”

DATES: Please send your comments by September 14, 2018. OMB must receive your comments by this date in order to act quickly on the ICR.

ADDRESSES: All comments should reference Federal Docket Management System (FDMS) Docket Number FMCSA-2018-0091. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Crystal Frederick, Transportation Specialist, Compliance Division, Department of Transportation, Federal Motor Carrier Safety Administration, 6th Floor, West Building, 1200 New Jersey Avenue SE, Washington, DC 20590-0001. Telephone: 202-366-2904; Email Address: crystal.frederick@dot.gov. Office hours are from 9 a.m. to 5 p.m., Monday through Friday, except Federal Holidays.

SUPPLEMENTARY INFORMATION:

Title: Commercial Motor Vehicle Marking Requirements

OMB Control Number: 2126-0054.

Type of Request: Renewal of a currently approved collection.

Respondents: Freight carrying commercial motor carriers, passenger carrying commercial motor carriers and intermodal equipment providers.

Estimated Number of Respondents: 218,389 motor carriers and IEPs.

Estimated Time per Response: 26 minutes [12 minutes to affix DOT Number + 14 minutes for affixing a carrier's name = 26].

Expiration Date: August 31, 2018.

Frequency of Response: On occasion.

Estimated Total Annual Burden: 774,249 hours spent by motor carriers and IEPs marking CMVs with a DOT number and carrier information.

Background: The Secretary of Transportation (Secretary) is authorized to require marking of vehicles and intermodal equipment by motor carriers and intermodal equipment providers (IEPs) engaging in interstate transportation based on the authority of 49 U.S.C. 31133(a)(8) and 31133(a)(10). The Secretary has delegated authority pertaining to the marking of commercial motor vehicles (CMVs) pursuant to 49 CFR 1.87(f). The Agency's regulation governing the marking of CMVs is codified at 49 CFR 390.21.

Vehicle marking requirements are intended to ensure that FMCSA, the National Transportation Safety Board (NTSB), and State safety officials are able to identify motor carriers and correctly assign responsibility for regulatory violations during inspections, investigations, compliance reviews, and crash studies. These marking requirements will also provide the public with beneficial information that could assist in identifying carriers for the purposes of commerce, complaints or emergency notification. The marking requirements apply to motor carriers and intermodal equipment providers (IEPs) engaging in interstate transportation. The Agency does not require a specific method of marking as long as the marking complies with FMCSA's regulations. The program change decrease of 76,751 estimated annual burden hours (774,249 proposed estimated annual burden hours-851,000 approved estimated annual burden hours) is due to adjustments in respondent and response estimates. Data, as of September 29, 2017, pulled from FMCSA's MCMIS and SMS databases indicated that there was a decrease in the number of active interstate freight carriers and intrastate hazardous materials carriers and a decrease in the number of power units subject to Component 1 marking requirements, resulting in a decrease of 94,799 burden hours. According to the September 29, 2017 snapshot, there was a decrease in the number of passenger carriers impacted and an increase in the number of passenger-carrying power units impacted by Component 2, resulting in an increase of 17,947 burden hours. Finally, greater precision was used in calculating the number of respondents, responses associated with Component 3, resulting in an increase of 101 burden hours.

Two comments were submitted to the docket during the 60-day comment period, in response to the 60-day Federal Register, 83(17885), published on April 24, 2018. One comment was received from Greyhound Lines, Inc. (Greyhound) and the other from Owner-Operator Independent Drivers Association (OOIDA). Greyhound's comment, however, addresses another ICR open during the same time period, “Leasing and Interchange of Vehicles,” and not the Markings ICR. The comment submitted by Greyhound will thus be addressed in the Leasing ICR response. The other comment submitted by OOIDA raised two points. The first issue raised deals with the phrasing of the associated regulation, part 390. OOIDA asserts that current wording of the part does not permit certain leasing situations. FMCSA notes that an ICR is not the venue for regulatory change, even if the regulation is related to the subject matter covered in the ICR. The second claim made by OOIDA is that the aforementioned regulation does nothing to improve safety. As we stated in the 2015 final rule the marking requirement enables “investigators and the general public to identify the passenger carrier responsible for safety” (80 FR 30164, 30166). Given these considerations FMCSA does not believe changes to the ICR are appropriate based on these comments.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on August 3, 2018.
G. Kelly Regal,
Associate Administrator for Office of Research and Information Technology.

[FR Doc. 2018-17568 Filed 8-14-18; 8:45 am]

BILLING CODE 4910-EX-P